DEPARTMENT OF TRANSPORTATION

Office of the Secretary

Agency Information Collection; Proposed Extension; Request for Comments; Uniform Administrative Requirements for Grants, and Agreements With Institutions of Higher Education, Hospitals, and Other Nonprofit Organizations

AGENCY: Office of the Secretary, DOT.

ACTION: Notice and request for comments.

SUMMARY: In accordance with the Paperwork Reduction Act of 1995 (44 U.S.C. Chapter 35, as amended), this notice announces the Department of Transportation's (DOT) intention to request the extension of a previously approved collection.

DATES: Comments on this notice must be received by June 12, 2001.

ADDRESSES: Comments should be directed to the Grants Management Division (M-62), Office of The Senior Procurement Executive, Office of the Secretary, US Department of Transportation, 400 Seventh Street, SW., Washington, DC 20590.

FOR FURTHER INFORMATION CONTACT: Mr. Ladd Hakes, Grants Management Division (M-62), Office of the Senior Procurement Executive, Office of the Secretary, US Department of Transportation, 400 Seventh Street, SW., Washington, DC 20590, (202) 366-4284.

SUPPLEMENTARY INFORMATION: Title: Uniform Administrative Requirements For Grants and Agreements with Institutions of Higher Education, Hospitals, and Other Non-Profit Organizations.

Forms: SF 269, SF 270, SF 271, SF 272, and SF 424.

OMB Number: 2105-0531.

Expiration Date: June 30, 2001.

Type of Request: Extension of a previously approved collection.

Affected Public: Public Schools, hospitals, and other nonprofit organizations receiving Federal financial assistance from DOT.

Abstract: Requirements for Federal administration of financial assistance to schools, hospitals, and other nonprofit organizations is provided to affected Executive agencies via OMB Circular A-110, Uniform Administrative Requirements for Grants and Agreements with Institutions of Higher Education, Hospitals, and Other Non-Profit Organizations which the Department has codified at 49 CFR part 19. OMB provides management and oversight of the circular. OMB also provides for a standard figure of seventy (70) annual burden hours per grantee for completion of required forms.

Respondents: State and local governments receiving Federal financial assistance from the Department of Transportation (DOT).

Estimated Number of Respondents: 150 (avg. 4 responses per respondent per year).

Average Annual Burden Per Respondent: 70 hours.

Estimated Total Burden on Respondents: 10,500 hours.

These information collections are available for inspection at the Grants Management Division (M-62), Office of Acquisition and Grant Management, Department of Transportation, at the address above. Copies of 49 CFR parts 18 and 19 can be obtained from Mr. Ladd Hakes at the address and phone number shown above.

Comments are invited on: (a) Whether the proposed collection of information is necessary for the proper performance of the functions of the Department, including whether the information will have practical utility; (b) the accuracy of the Department's estimate of the burden of the proposed information collection; (c) ways to enhance the quality, utility, and clarity of the information to be collected; and (d) ways to minimize the burden of the collection of information on respondents, including the use of automated collection techniques or other forms of information technology.

All responses to this notice, will be summarized and included in the request for OMB approval. All comments will also become a matter of public record.

Issued in Washington, DC on April 9, 2001.
Ladd Hakes,
Acting Director, Grants Management Division.

[FR Doc. 01-9183 Filed 4-12-01; 8:45 am]

BILLING CODE 4910-62-P